CONSUMER PRODUCT SAFETY COMMISSION

[Docket No. CPSC-2010-0041]

Collection of Information; Proposed Extension of Approval; Comment Request—Publicly Available Consumer Product Safety Information Database

AGENCY: Consumer Product Safety Commission.

ACTION: Notice.

SUMMARY: As required by the Paperwork Reduction Act of 1995 (PRA) (44 U.S.C. Chapter 35), the Consumer Product Safety Commission (CPSC or Commission) requests comments on a proposed extension of approval of a collection of information for the Publicly Available Consumer Product Safety Information Database. The Commission will consider all comments received in response to this notice before requesting an extension of approval of this collection of information from the Office of Management and Budget (OMB).

DATES: The Office of the Secretary must receive comments not later than December 2, 2013.

ADDRESSES: OMB recommends that written comments be faxed to the Office of Information and Regulatory Affairs, OMB, Attn: CPSC Desk Officer, FAX: 202-395-6974, or emailed to oira_submission@omb.eop.gov. All comments should be identified by Docket No. CPSC-2010-0041. In addition, written comments also should be submitted at http://www.regulations.gov, under Docket No. CPSC-2010-0041, or by mail/hand delivery/courier (for paper, disk, or CD-ROM submissions), preferably in five copies, to: Office of the Secretary, U.S. Consumer Product Safety Commission, Room 820, 4330 East West Highway, Bethesda, MD 20814; telephone (301) 504-7923. For access to the docket to read background documents or comments received, go to http://www.regulations.gov.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: In the Federal Register of August 15, 2013 (78 FR 49730), the CPSC published a notice in accordance with provisions of the Paperwork Reduction Act of 1995 (44 U.S.C. Chapter 35). This notice announced CPSC's intention to seek extension of approval of a collection of information for a database on the safety of consumer products and other products and substances regulated by the Commission (Database), as required by section 212 of the Consumer Product Safety Improvement Act of 2008 (CPSIA).

Two comments were received in response to the August 15th notice. One commenter stated support for extension of the approval of the collection of information for the Database, citing the usefulness of the data collected to both the CPSC and to consumers. This commenter also suggested that the Database could be even more useful if CPSC would provide a link to any corrective action, fine, recall or safety alert involving a reported product. CPSC agrees that the links suggested by the commenter would add value to the Database. However, incorporating new features would require resources that are not currently available. CPSC will take the suggestion under advisement and consider such modifications if and when resources for modifications are available. Another commenter stated that CPSC does not help consumers. CPSC has no response to this comment because the comment is outside the scope of the inquiry regarding paperwork burdens associated with the requested collection of information.

By publication of this notice, the Commission announces that it has submitted to the Office of Management and Budget (OMB) a request for extension of approval of the collection of information for the Database without change.

A. Background

Section 212 of the Consumer Product Safety Improvement Act of 2008 (CPSIA) added section 6A to the Consumer Product Safety Act (CPSA) which requires the Consumer Product Safety Commission (CPSC or Commission) to establish and maintain a publicly available, searchable database on the safety of consumer products, and other products or substances regulated by the Commission (Database). Among other things, section 6A of the CPSA requires the Commission to collect reports of harm from the public for potential publication in the publicly available Database, and to collect and publish comments about reports of harm from manufacturers.

The Commission announced that a proposed collection of information in conjunction with the Database, called the Publicly Available Consumer Product Safety Information Database, had been submitted to OMB for review and clearance under 44 U.S.C. 3501-3520 in a proposed rule published on May 24, 2010 (75 FR 29156). The Commission issued a final rule on the Database on December 9, 2010 (75 FR 76832). The final rule interprets various statutory requirements in section 6A of the CPSA pertaining to the information to be included in the Database and also establishes provisions regarding submitting reports of harm; providing notice of reports of harm to manufacturers; publishing reports of harm and manufacturer comments in the Database; and dealing with confidential and materially inaccurate information.

OMB approved the collection of information for the Database under control number 3041-0146. OMB's most recent extension of approval will expire on January 31, 2014. The Commission now proposes to request an extension of approval of this collection of information.

B. Information Collected Through the Database

The primary purpose of this information collection is to populate the publicly searchable Database of consumer product safety information mandated by section 6A of the CPSA. There are four components to the information collection: Reports of harm, manufacturer comments, branding information, and the Small Batch Manufacturer Registry (SBMR).

Reports of Harm: Reports of harm communicate information regarding an injury, illness, or death, or any risk (as determined by the Commission) of injury, illness, or death, relating to the use of a consumer product. Reports can be submitted to the CPSC by consumers; local, State, or Federal government agencies; health care professionals; child service providers; public safety entities; and others. Reports may be submitted in one of three ways: Via the CPSC Web site (www.SaferProducts.gov), by telephone via a CPSC call center, or by email, fax, or mail using the incident report form (available for download or printing via the CPSC Web site). Reports may also originate as a free-form letter or email. Submitters must consent to inclusion of their report of harm in the publicly searchable Database.

Manufacturer Comments: A manufacturer or private labeler may submit a comment related to a report of harm if the report of harm identifies the manufacturer or private labeler and the CPSC transmits such report of harm to the manufacturer. Manufacturer comments may be submitted through the business portal, by email, mail, or fax. The business portal is a feature of the Database that allows manufacturers who register on the business portal to receive reports of harm and comment on such reports through the business portal. Use of the business portal expedites the receipt of reports of harm and business response times.

A manufacturer may request that the Commission designate information in a report of harm as confidential. Such a request may be made using the business portal, by email, by mail, or by fax. Also, any person or entity reviewing a report of harm or manufacturer comment, either before or after publication in the Database, may request that the report or comment, or portions of the report or comment, be excluded from the Database because the report or comment contains materially inaccurate information. Such a request may be made by manufacturers using the business portal, by email, mail or fax, and may be submitted by anyone else by email, mail, or fax.

Branding Information: Using the business portal, registered businesses may voluntarily submit branding information to assist CPSC in correctly and timely routing reports of harm involving their products to them. Brand names may be licensed to another entity for use in labeling consumer products manufactured by that entity. CPSC's understanding of licensing arrangements for consumer products can help to give the correct manufacturer timely notification of a report of harm.

Small Batch Manufacturers Registry: The business portal also contains the SBMR, which is the online mechanism by which small batch manufacturers (as defined in the CPSA) can identify themselves to obtain relief from certain third party testing requirements for children's products. To register as a small batch manufacturer a business must attest that the company's income level and the number of units of the covered product manufactured for which relief is sought both fall within the statutory limits to receive relief from third party testing.

C. Estimated Burden

1. Estimated Annual Burden for Respondents

We estimate the burden of this collection of information as follows:

¹ Frequency of responses is calculated by dividing the number of responses by the number of respondents.

² Numbers have been rounded.

Table 1—Estimated Annual Reporting Burden for Reports of Harm
Collection type | Number of respondents | Response frequency ¹ | Total annual responses | Minutes per response | Total burden, in hours ²
Reports of Harm—submitted through web site | 8,030 | 1.02 | 8,207 | 12 | 1,641
Reports of Harm—submitted by phone | 3,749 | 1.00 | 3,749 | 10 | 625
Reports of Harm—submitted by mail, email, fax | 904 | 6.71 | 6,067 | 20 | 2,022
Total | 12,683 |  | 18,023 |  | 4,288

Table 2—Estimated Annual Reporting Burden for Manufacturer Submissions
Collection type | Number of respondents | Response frequency ¹ | Total annual responses | Minutes per response | Total burden, in hours ²
Manufacturer Comments—submitted through web site | 624 | 8.20 | 5,117 | 116 | 9,893
Manufacturer Comments—submitted by mail, email, fax | 132 | 1.25 | 165 | 146 | 402
Requests to Treat Information as Confidential—submitted through web site | 11 | 1.27 | 14 | 15 | 4
Requests to Treat Information as Confidential—submitted by mail, email, fax | 0 | 0 | 0 | 45 | 0
Requests to Treat Information as Materially Inaccurate—submitted through web site | 231 | 2.46 | 568 | 438 | 4,146
Requests to Treat Information as Materially Inaccurate—submitted by mail, email, fax | 83 | 1.25 | 104 | 468 | 811
Voluntary Brand Identification | 545 | 2.25 | 1,227 | 10 | 205
Small Batch Manufacturer Identification | 578 | 1 | 578 | 10 | 96
Total | 2,204 |  | 7,773 |  | 15,557

Based on the data set forth in tables 1 and 2 above, the annual reporting cost is estimated to be $1,086,332. This estimate is based on the sum of two estimated figures for reports of harm and manufacturer submissions. The estimated number of respondents and responses are based on the actual responses received in FY 2012. We assume that the number of responses and respondents will be similar in future years.

Reports of Harm: Table 1 sets forth the data used to estimate the burden associated with submitting reports of harm. We had previously estimated the time associated with the electronic and telephone submission of reports of harm at 12 and 10 minutes respectively and so used those figures for present purposes as well. We estimate that the time associated with a paper or PDF form would be 20 minutes on average.

To estimate the costs for submitting reports of harm we multiplied the estimated total burden hours associated with reports of harm (1,641 hours + 625 hours + 2,022 hours = 4,288 hours) by an estimated total compensation for all workers in private industry of $29.13 per hour,³ which results in an estimated cost of $124,909 (4,288 hours × $29.13 per hour = $124,909).

³ U.S. Department of Labor, Bureau of Labor Statistics, Table 9 of the Employer Costs for Employee Compensation (ECEC), Private Industry, goods-producing and service-providing industries, by occupational group, March 2013 (data extracted on 07/24/2013 from http://www.bls.gov/news.release/ecec.t09.htm.

Manufacturer Submissions: Table 2 sets forth the data used to estimate the burden associated with manufacturer submissions to the Database. To gain information on how long it takes a manufacturer to submit a general comment or a claim that a report contains materially inaccurate information through the business portal, we contacted six businesses registered on the business portal. We asked each company how long it typically takes to research, compose, and enter a comment or a claim of materially inaccurate information. We had observed that a large percentage of the general comments come from a few businesses and assumed that the experience of a business that submits many comments each year would be different from one that submits only a few. Accordingly, we divided all responding businesses into three groups based on the number of general comments submitted in FY 2012, and then selected two businesses from each group to contact. The first group we contacted was made of up of businesses that submitted 50 or more comments in FY 2012, accounting for 46% of all general comments received. The second group we contacted included businesses that submitted 6 to 49 comments, accounting for 36% of all general comments received. The last group contacted included businesses that submitted no more than five comments, accounting for 18% of all general comments received.

To estimate the burden associated with submitting a general comment regarding a report of harm through the business portal, we averaged the burden provided by each company within each group and then calculated a weighted average from the three groups, weighting each group by the proportion of comments received from that group. We found that the average time to submit a general comment regarding a report of harm is 116 minutes based on the data in table 3 (((10 minutes + 180 minutes)/2 companies)*.46 + ((10 minutes + 30 minutes)/2 companies)*.36 + ((240 minutes + 480 minutes)/2 companies)*.18 = 116 minutes).

Table 3—Estimated Burden To Enter a General Comment in the Database
Group | Company | General comments (minutes)
Group 1 (≥50 comments) | Company A Company B | 10. 180.
Group 2 (6-49 comments) | Company A Company B | 10. 30.
Group 3 (≤5 comments) | Company A Company B | 240. 480.

Registered businesses generally submit comments through our Web site. Unregistered businesses submit comments by mail, email, or fax. We estimate that submitting comments in this way takes a little longer because we often must ask the business to amend their submission to include the required certifications. Thus, we estimated that on average, comments submitted by mail, email, or fax take 30 minutes longer than those submitted through our Web site (116 minutes + 30 minutes = 146 minutes).

The submission of a claim of materially inaccurate information is a relatively rare event for all respondents, so we averaged all responses together. Four of the businesses contacted had submitted claims of materially inaccurate information during FY 2012. We found that the average time to submit a claim that a report of harm contains a material inaccuracy is 438 minutes ((10 minutes + 120 minutes + 180 minutes + 1,440 minutes)/4 companies = 438 minutes).

Registered businesses generally submit claims through the business portal. Unregistered businesses submit claims by mail, email, or fax. We estimate that submitting claims in this way takes a little longer because we often must ask the business to amend their submission to include the required certifications. Thus, we estimated that on average, claims submitted by mail, email, or fax take 30 minutes longer than those submitted through our Web site (438 minutes + 30 minutes = 468 minutes).

We had previously estimated that confidential information claims submitted through our Web site would take 15 minutes because the information to be entered would be readily accessible by the respondent. We have found that confidential information claims are very rare and do not have enough information to update this estimate. Although we have not received any confidential information claims by mail, email, or fax, based on our experience with comments and claims of materially inaccurate information, we estimate that a confidential information claim submitted by mail, email, or fax would take 30 minutes longer than those submitted through our Web site (15 minutes + 30 minutes = 45 minutes).

For voluntary brand identification, we estimate that a response would take 10 minutes on average. Most responses consist only of the brand name and a product description. In many cases a business will submit multiple entries in a brief period of time and we can see from the date and time stamps on these records that an entry often takes less than two minutes. CPSC staff enters the same data in a similar form based on our own research, and that experience was also factored into our estimate.

For small batch manufacturer identification, we estimate that a response would take 10 minutes on average. The form consists of three check boxes and the information should be readily accessible to the respondent.

The responses summarized in Table 2 are generally submitted by manufacturers. To avoid underestimating the cost associated with the collection of this data, we assigned the higher hourly wage associated with a manager or professional in goods-producing industries to these tasks. To estimate the cost of manufacturer submissions we multiplied the estimated total burden hours in Table 2 (15,557 hours) by an estimated total compensation for a manager or professional in goods-producing industries of $61.80 per hour,⁴ which results in an estimated cost of $961,423 (15,557 hours × $61.80 per hour = $961,423).

⁴ U.S. Department of Labor, Bureau of Labor Statistics, Table 9 of the Employer Costs for Employee Compensation (ECEC), Private Industry, goods-producing and service-providing industries, by occupational group, March 2013 (data extracted on 07/24/2013 from http://www.bls.gov/news.release/ecec.t09.htm.

Therefore, the total estimated annual cost to respondents is $1,086,332 ($124,909 burden for reports of harm + $961,423 burden for manufacturer submissions = $1,086,332).

2. Estimated Annual Burden on Government

The annualized cost to the CPSC is estimated to be $1,028,794. This figure is based on the costs for four categories of work for the Database: Reports of Harm, Materially Inaccurate Information Claims, Manufacturer Comments, and Small Batch Identification. Each category is described below. No government cost is associated with Voluntary Brand Identification because this information is entered directly into the Database by the manufacturer with no processing required by the government. The information assists the government in directing reports of harm to the correct manufacturer. We did not attempt to separately calculate the government cost for claims of confidential information because the number of claims is so small. The time to process these claims is included with claims of materially inaccurate information.

Reports of Harm: The Reports of Harm category includes many different tasks. Some costs related to this category are from a data entry contract. Tasks related to this contract include clerical coding of the report, such as identifying the type of consumer product reported and the appropriate associated hazard, as well as performing quality control on the data in the report. The contractor spends an estimated 3,380 hours per year performing these tasks. With an hourly rate of $32.57, the annual cost to the government is $110,087.

The Reports of Harm category also includes sending consent requests for reports when necessary, processing that consent when received, determining whether a product is out of CPSC's jurisdiction, and confirming that pictures and attachments do not have any personally identifiable information. The Reports category also entails notifying manufacturers when one of their products is reported, completing a risk of harm determination form for every report eligible for publication, referring some reports to a Subject Matter Expert (SME) within the CPSC for a determination on whether the reports meet the requirement of having a risk of harm, and determining whether a report meets all the statutory and regulatory requirements for publication. Detailed costs are described in Table 4.

Table 4—Estimated Costs for Reports of Harm Task
Grade level | Number of hours (annual) | Total compensation per hour | Total annual cost
Contract | 3,380 | $32.57 | $110,086.60
7 | 1,560 | 33.03 | 51,526.80
9 | 832 | 40.53 | 33,720.96
12 | 6,396 | 58.78 | 375,956.88
13 | 884 | 69.67 | 61,588.28
14 | 2,053 | 82.60 | 169,577.80
15 | 421 | 96.84 | 40,769.64
Total | 12,146 |  | 843,226.96

Materially Inaccurate Information (MII) Claims: The MII Claims category includes reviewing and responding to claims, participating in meetings where the claims are discussed, and completing a risk of harm determination on reports when a company alleges that a report does not describe a risk of harm. Detailed costs are described in Table 5.

Table 5—Estimated Costs for MII Claims Task
Grade level | Number of hours (annual) | Total compensation per hour | Total annual cost
12 | 364 | $58.78 | $21,395.92
13 | 1,040 | 69.67 | 72,456.80
14 | 378 | 82.60 | 31,222.80
15 | 151 | 96.84 | 14,622.84
SES | 104 | 103.91 | 10,806.64
Total | 2,037 |  | 150,505.00

Manufacturer Comments: The Comments category includes reviewing and accepting or rejecting comments. Detailed costs are described in Table 6.

Table 6—Estimated Costs for Manufacturer Comments Task
Grade level | Number of hours (annual) | Total compensation per hour | Total annual cost
12 | 104 | $58.78 | $6,113.12
13 | 182 | 69.67 | 12,679.94
Total | 286 |  | 18,793.06

Small Batch Manufacturer Identification: The Small Batch Manufacturer Identification category includes time spent posting the list of small batch registrations, as well as answering manufacturer's questions on how to register as a Small Batch company and what it means to that company. Detailed costs are described in Table 7.

Table 7—Estimated Costs for Small Batch Task
Grade level | Number of hours (annual) | Total compensation per hour | Total annual cost
15 | 168 | $96.84 | $16,269.12
Total | 168 |  | 16,269.12

We estimate the annualized cost to the CPSC of $1,028,794 by adding the four categories of work related to the Database summarized in Tables 4 through 7 (Reports of Harm ($843,226.96) + MII Claims ($150,505.00) + Manufacturer Comments ($18,793.06) + Small Batch Identification ($16,269.12) = $1,028,794).

This information collection renewal request based on an estimated 19,845 burden hours per year for the Database is a decrease of 17,284 hours since this collection of information was last approved by OMB in 2011. The decrease in burden is due primarily to the fact that the number of responses was overestimated in our original request.

Dated: October 28, 2013.
Todd A. Stevenson,
Secretary, Consumer Product Safety Commission.

[FR Doc. 2013-25893 Filed 10-30-13; 8:45 am]

BILLING CODE 6355-01-P